DEPARTMENT OF JUSTICE

Notice of Lodging of Consent Decree Under the Comprehensive Environmental Response, Compensation and Liability Act

In accordance with 28 U.S.C. § 50.7 and section 122 of the Comprehensive Environmental Response, Compensation and Liability Act (“CERCLA”), 42 U.S.C. § 9622, notice is hereby given that on July 29, 2003, a proposed Consent Decree in United States v. Reynolds Metal Co., Civil Action No. 03-CV-0952, was lodged with the United States District Court for the Northern District of New York.

In this action the United States, on behalf of the United States Environmental Protection Agency (“EPA”), sought reimbursement of response costs incurred with respect to the Reynolds Metals Company Study Area (the “Site”) in Massena, St. Lawrence County, New York. The Complaint alleges that the defendant is liable under Section 107(a), 42 U.S.C. § 9607(a), of CERCLA. Pursuant to the consent decree, defendant will pay $1,523,965.31 plus interest to reimburse the United States for costs incurred by EPA at the Site.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Reynolds Metals Co., D.J. Ref. 90-11-3-07968.

The Consent Degree may be examined at the Office of the United States Attorney, James T. Foley Federal Building, 445 Broadway, Albany, New York, New York, 12207, and at U.S. EPA Region II, 290 Broadway, 17th Floor, New York, 10007-1866. During the public comment period, the Consent Degree, may also be examined on the following Department of Justice website, http://www.usdoj.gov/enrd/open.html. A copy of the Consent Degree may also be obtained by mail from the Consent Degree Library, P.O. Box 7611, U.S. Department of Justice, Washington, D.C. 20044-7611 or by faxing or e-mailing a request to Tonia Fleetwood (tonia.fleetwood@usdoj.gov) fax no. (202) 514-0097, phone confirmation number (202) 514-1547. In requesting a copy from the Consent Degree Library, please enclose a check in the amount of $5.75 (25 cents per page reproduction cost) payable to the U.S. Treasury.

Catherine McCabe,
Deputy Section Chief, Environmental Enforcement Section, Environment and Natural Resources Division.

[FR Doc. 03-20071 Filed 8-6-03; 8:45 am]

BILLING CODE 4410-15-M